DEPARTMENT OF TRANSPORTATION

National Highway Traffic Safety Administration

Petition To Modify an Exemption of a Previously Approved Antitheft Device; Ford Motor Company

AGENCY: National Highway Traffic Safety Administration (NHTSA); Department of Transportation (DOT).

ACTION: Grant of petition to modify an exemption of a previously approved antitheft device.

SUMMARY: On February 14, 2006, the National Highway Traffic Safety Administration (NHTSA) granted in full Ford Motor Company's (Ford) petition for an exemption in accordance with § 543.9(c)(2) of 49 CFR part 543, Exemption from the Theft Prevention Standard for the Ford Focus vehicle line beginning with model year (MY 2006). On June 18, 2010, Ford submitted a petition to modify its previously approved exemption for the Ford Focus vehicle line beginning with model year (MY) 2012. NHTSA is granting Ford's petition to modify the exemption in full because it has determined that the modified device is also likely to be as effective in reducing and deterring motor vehicle theft as compliance with the parts-marking requirements of the Theft Prevention Standard.

DATES: The exemption granted by this notice is effective beginning with the 2012 model year (MY).

FOR FURTHER INFORMATION CONTACT: Ms. Carlita Ballard, Office of International Policy, Fuel Economy and Consumer Programs, NHTSA, 1200 New Jersey Avenue, SE., Washington, DC 20590. Ms. Ballard's telephone number is (202) 366-0846. Her fax number is (202) 493-2990.

SUPPLEMENTARY INFORMATION: On February 14, 2006, NHTSA published in the Federal Register a notice granting in full a petition from Ford for an exemption from the parts-marking requirements of the Theft Prevention Standard (49 part CFR 541) for the Focus vehicle line beginning with its MY 2006 vehicles. The 2006 Ford Focus is currently equipped with a passive antitheft device (See 71 FR 7824) and offered with an optional perimeter alarm system.

On June 18, 2010, Ford submitted a petition to modify the previously approved exemption for the Focus vehicle line. This notice grants in full Ford's petition to modify the exemption for the Focus vehicle line. Ford's submission is a complete petition, as required by 49 CFR 543.9(d), in that it meets the general requirements contained in 49 CFR 543.5 and the specific content requirements of 49 CFR 543.6. Ford's petition provides a detailed description and diagram of the identity, design, and location of the components of the antitheft device proposed for installation beginning with the 2012 model year.

The MY 2006 passive antitheft device installed as standard equipment on the Ford Focus is the Passive Antitheft Electronic Engine Immobilizer System (PATS)/SecuriLock Passive Anti-Theft Electronic Powertrain Immobilizer System (SecuriLock). Features of the antitheft device include an electronic key, ignition lock, and a transponder-based electronic passive immobilizer. The MY 2006 device also incorporates an optional perimeter alarm system which monitors all the doors, decklid and hood of the vehicle.

Ford stated that integration of the transponder into the normal operation of the ignition key assures activation of the device. When the ignition key is turned to the start position, the transceiver module reads the ignition key code and transmits an encrypted message to the cluster. Once validation of the key is determined, the engine can be started once a separate encrypted message is sent to the powertrain's electronic control module (PCM). The powertrain will function only if the key code matches the unique identification key code previously programmed into the PCM. If the codes do not match, the powertrain engine starter will be disabled.

In its 2012 modification, Ford will continue to offer the SecuriLock System/PATS device as standard equipment on its base trim level vehicles but all other trim level vehicles will have either the SecuriLock System/PATS device as standard equipment or the optional Intelligent Access with Push Button Start (IAwPB). Key components of the IAwPB system is an electronic keyfob, remote function actuator, body control module, power train control module and a passive immobilizer. Ford stated that both devices are always active and require no other operator action. Ford stated that in addition to a programmed electronic key, there are three modules, the BCM, the IAwPB/RFA module and the PCM, that must be matched together to start the vehicle. These matched modules will not function in other vehicles if separated from each other, adding even an additional level of security to the IAwPB device. Specifically, in the SecuriLock/PATS device, when the ignition key is turned to the “start” position, the transceiver module reads the ignition key code and transmits an encrypted message from the keycode to the control module, which then determines key validity and authorizes engine starting by sending a separate encrypted message to the powertrain control module (PCM). In the IAwPB device, when the “start” button is pressed, and the brake pedal is depressed, the Body Control Module (BCM) triggers the Remote Function Actuator (RFA) to search for a key inside the vehicle. If a key is detected, the RFA compares the keycode to the stored valid codes in the RFA and reports back to the BCM whether a valid key was found. In both devices, if the codes do not match, the vehicle will be inoperable. Ford also stated that its MY 2012 Ford Focus vehicle line will also be equipped with several other standard antitheft features common to Ford vehicles, (i.e., counterfeit resistant VIN labels; secondary VINs, cabin accessibility only with a valid key fob).

Ford stated that its MY 2012 modification will continue to incorporate some of the same theft prevention features that made it very difficult to defeat its MY 2006 device. Specifically, some of those features include: Encrypted communication between the transponder and the control function, 28 trillion possible codes, making key duplication virtually impossible, no moving parts; inability to mechanically override the device to start the vehicle; and the body control module/remote function actuator and the power train control module share security data that during vehicle assembly form matched modules that if separated from each other will not function in other vehicles. Ford also stated that an audible perimeter alarm system will also be installed as standard equipment on its MY 2012 Ford Focus vehicles with a premier trim package, adding another level of security. The audible/visual perimeter alarm system will not be offered on vehicles with the base trim package.

Ford stated that it believes that the planned addition of the optional IAwPB electronic engine immobilizer system will render ineffective, conventional theft methods, such as hot-wiring, attacking the ignition lock cylinder and drive-away thefts.

Ford also stated that it believes that installation of the SecuriLock/PATS device and IAwPB system are an effective deterrent against vehicle theft. Since the same aspects of performance (i.e., arming and the immobilization feature) are still provided, the agency believes that the same level of protection is being met. Since the agency granted Ford's exemption for its MY 2006 Focus vehicle line, the latest available theft rate using an average of 3 MY's data is 2.8629 which is still below the median theft rate.

The agency has evaluated Ford's MY 2012 petition to modify the exemption for the Focus vehicle line from the parts-marking requirements of 49 CFR part 541, and has decided to grant it. The agency believes that the proposed device will continue to provide the four types of performance listed in § 543.6(a)(3): Promoting activation; preventing defeat or circumvention of the device by unauthorized persons; preventing operation of the vehicle by unauthorized entrants; and ensuring the reliability and durability of the device.

If Ford decides not to use the exemption for this line, it should formally notify the agency. If such a decision is made, the line must be fully marked according to the requirements under 49 CFR 541.5 and 541.6 (marking of major component parts and replacement parts).

NHTSA suggests that if the manufacturer contemplates making any changes, the effects of which might be characterized as de minimis, it should consult the agency before preparing and submitting a petition to modify.

Authority: 49 U.S.C. 33106; delegation of authority at 49 CFR 1.50.

Issued on: August 10, 2010.
Joseph S. Carra,
Acting Associate Administrator for Rulemaking.

[FR Doc. 2010-20165 Filed 8-13-10; 8:45 am]

BILLING CODE 4910-59-M